DEPARTMENT OF THE TREASURY

Submission for OMB Review; Comment Request

July 16, 2007.

The Department of The Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 23, 2007 to be assured of consideration.

Internal Revenue Service (IRS)

OMB Number: 1545-0099.

Type of Review: Revision.

Title: U.S. Return of Partnership Income (Form 1065); Capital Gains and Losses (Schedule D); and Partner's Share of Income, Credits, Deductions, etc. (Schedule K-1).

Form: Schedule K-1 (Form 1065), Form 1065, Form 1065 (Schedule D); Schedule M-3 (Form 1065).

Description: IRC section 6031 requires partnerships to file returns that show gross income items, allowable deductions, partners' names, addresses, and distribution shares, and other information. This information is used to verify correct reporting of partnership items and for general statistics.

Respondents: Businesses and other for-profits.

Estimated Total Burden Hours: 803,424,312 hours.

OMB Number: 1545-2065.

Type of Review: Revision.

Title: Notice of Qualified Equity Investment for New Markets Credit.

Form: 8874-A.

Description: Internal Revenue Code Sections 6109 and 6103 with code section 45N. New IRC section 45N was added by section 405 of the Tax Relief and Health Care of 2006. The new form provides a means for the qualified mining company to compute and claim the new markets credit.

Respondents: Businesses and other for-profits.

Estimated Total Burden Hours: 2,715 hours.

OMB Number: 1545-1601.

Type of Review: Extension.

Title: Revenue Procedure 98-32, EFTPS Programs for Reporting Agents.

Description: The Batch and Bulk Filer programs are used by Filers for electronically submitting enrollments, federal tax deposits, and federal tax payments on behalf of multiple taxpayers. These programs are part of the Electronic Federal Tax Payment System (EFTPS).

Respondents: Businesses and other for-profits.

Estimated Total Burden Hours: 246,877 hours.

OMB Number: 1545-1906.

Type of Review: Extension.

Title: REG-149524-03 (NPRM) LIFO Recapture Under Section 1363(d).

Description: This collection of information is required to inform the IRS of partnerships electing to increase the basis of inventory to reflect any amount included in a partner's income under section 1363(d). Section 1.1363-2(e)(ii) allows a partnership to elect to adjust the basis of its inventory to take account of LIFO recapture. Section 1.1363-2(e)(3) provides guidance on how to make this election.

Respondents: Businesses and other for-profits.

Estimated Total Burden Hours: 200 hours.

OMB Number: 1545-0985.

Type of Review: Extension.

Title: PS-128-86, PS-127-86, and PS-73-88 (Final) (TD 8644) Generation-Skipping Transfer Tax.

Description: This regulation provides rules relating to the effective date, return requirements, definitions, and certain special rules covering the generation-skipping transfer tax. The information required by the regulation will require individuals and/or fiduciaries to report information on Form 706NA, 706, 706GS (D), 706GS (D-1), 706GS (T), 709 and 843 in connection with the generation skipping transfer tax. The information will facilitate the assessment of the tax and taxpayer examinations.

Respondents: Individuals or households.

Estimated Total Burden Hours: 3,750 hours.

OMB Number: 1545-1614.

Type of Review: Extension.

Title: REG-106177-97 (NPRM) Qualified State Tuition Programs.

Description: Respondents are states and eligible educational institutions that establish and maintain qualified state tuition programs. Respondents include distributees who receive benefits under the programs. Information verifies that programs are qualified and that distributions are used for qualified educational expenses.

Respondents: State, Local and Tribal Governments.

Estimated Total Burden Hours: 4,258,260 hours.

OMB Number: 1545-1884.

Type of Review: Extension.

Title: Announcement 2004-43, Election of Alternative Deficit Reduction Contribution.

Description: Announcement 2004-43 describes the notice that must be given by an employer to plan participants and beneficiaries and to the Pension Benefit Guaranty Corporation within 30 days of making an election to take advantage of the alternative deficit reduction contribution described in Pub. L. 108-18, and gives a special transition rule for the 1st quarter.

Respondents: Businesses and other for-profits.

Estimated Total Burden Hours: 12,000 hours.

OMB Number: 1545-1900.

Type of Review: Extension.

Title: REG-208254-90 (NPRM) Source of Compensation for Labor or Personal Services.

Description: The proposed regulation describes the appropriate bases for determining the source of income from labor or personal services performed partly within and partly without the United States. The information required in Sec. 1.861-4(b)(2)(ii)(D) and (D)(6) will enable an employee to source certain fringe benefits on a geographical basis. The collections of information will, likewise, allow the IRS to verify these determinations.

Respondents: Individuals or households.

Estimated Total Burden Hours: 10,000 hours.

OMB Number: 1545-0923.

Type of Review: Extension.

Title: REG-209274-85 (NPRM) and (Temporary) Tax Exempt Entity Leasing.

Description: These regulations provide guidance to persons executing lease agreements involving tax-exempt entities under section 168(h) of the Internal Revenue Code. The regulations are necessary to implement congressionally enacted legislation and elections for certain previously tax-exempt organizations and certain tax-exempt controlled entities.

Respondents: Not-for profit institutions.

Estimated Total Burden Hours: 2,000 hours.

OMB Number: 1545-2066.

Type of Review: Extension.

Title: Notice of Recapture Event for New Markets Credit.

Form: 8874 B.

Description: Form 8874-B, Notice of Recapture Event for New Markets Credit was developed because qualified CDEs must provide Taxpayers holding a qualified equity investment with a completed Form 8874-B when a recapture event occurs. Regulations section 1.45D-1(g)(2)(i)(B).

Respondents: Businesses or other for-profits.

Estimated Total Burden Hours: 2,755 hours.

OMB Number: 1545-2067.

Type of Review: Extension.

Title: Proceeds From Broker and Barter Exchange Transactions.

Form: 1099-B.

Description: Form 1099-B is used by brokers and barter exchanges to report proceeds from transactions to the Internal Revenue Service. The form will be used by IRS to verify compliance with the reporting rules and to verify that the recipient has included the proper amount of income on his or her return.

Respondents: Individuals or households.

Estimated Total Burden Hours: 39,988,038 hours.

OMB Number: 1545-0597.

Type of Review: Extension.

Title: Mine Rescue Team Training Credit.

Form: 8923.

Description: Form 8923, Mine Rescue Team Training Credit, was developed to carry out the provisions of new code section 45N. 45N was added by section 405 of the Tax Relief and Health Care Act of 2006. The new form provides a means for the qualified mining company to compute and claim the credit.

Respondents: Businesses and other for-profits.

Estimated Total Burden Hours: 292 hours.

OMB Number: 1545-1751.

Type of Review: Extension.

Title: REG-107151-00 (Final) Constructive Transfers and Transfers of Property to a Third Party on Behalf of a Spouse.

Description: The regulation sets forth the required information that will permit spouses or former spouses to treat a redemption by a corporation of stock of one spouse or former spouse as a transfer of that stock to the other spouse or former spouse in exchange for the redemption proceeds and a redemption of the stock from the latter spouse or former spouse in exchange for the redemption proceeds.

Respondents: Individuals or households.

Estimated Total Burden Hours: 500 hours.

Clearance Officer:

Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E7-14275 Filed 7-23-07; 8:45 am]

BILLING CODE 4830-01-P